ENVIRONMENTAL PROTECTION AGENCY

[FRL-6992-4]

Good Neighbor Environmental Board Meeting

AGENCY: Environmental Protection Agency (EPA).

ACTION: Notice of meeting.

SUMMARY: The next meeting of the Good Neighbor Environmental Board, a federal advisory committee that reports to the President and Congress on environmental and infrastructure projects along the U.S. border with Mexico, will take place July 25-26 in San Diego, California. The meeting is open to the public. It is the second of three Good Neighbor meetings that will take place along the border during 2001.

DATES: The meeting will take place on July 25-26.

ADDRESSES: The meeting will take place at the Horton Grand Hotel, Three-Eleven Island Avenue, San Diego, California, 92101.

SUPPLEMENTARY INFORMATION:

Agenda

The theme for this meeting is water. During the morning of July 25th, the Board will hear presentations on this topic from a diverse group of invited speakers representing government, the private sector, and the public sector. These presentations will be followed by a public comment session that will take place before lunch. During this session, attendees will be encouraged to speak briefly about their own concerns and priorities for their communities as well as the wider border region.

Following lunch, the meeting will continue with several additional speakers discussing other border-region environmental topics. Then Board members will report out on recent developments within their respective sectors. The balance of the day, as well as the following morning, primarily will be devoted to ongoing Board business such as strengthening outreach and preparations for the Board's next advisory report. The meeting will end at noon on July 26th.

Public Attendance

The public is welcome to attend all portions of the meeting. Members of the public who plan to file written statements and/or make brief (suggested 5-minute limit) oral statements at the public comment session on the morning of July 25th are encouraged to contact the Designated Federal Officer for the Board prior to the meeting.

Background

The Good Neighbor Environmental Board was created by the Enterprise for the Americans Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The Board meets three times annually, primarily in various border locations. The U.S. Environmental Protection Agency gives notice of this meeting of the Good Neighbor Environmental Board pursuant to the Federal Advisory Committee Act (Pub. L. 92-463).

FOR FURTHER INFORMATION CONTACT: Elaine M. Koerner, Designated Federal Officer for the Good Neighbor Environmental Board, Office of Cooperative Environmental Management, Office of the Administrator, USEPA, MC1601A, 1200 Pennsylvania Ave., NW., Washington, DC 20004, (202) 564-1484, koerner.elaine@epa.gov.

Dated: May 25, 2001.
Elaine M. Koerner,
Designated Federal Officer.

[FR Doc. 01-14252 Filed 6-5-01; 8:45 am]

BILLING CODE 6560-50-U